DEPARTMENT OF COMMERCE

International Trade Administration

North American Free-Trade Agreement, Article 1904; NAFTA Panel Reviews: Notice of Completion of Panel Review

AGENCY: NAFTA Secretariat, United States Section, International Trade Administration, Department of Commerce.

ACTION: Notice of Completion of Panel Review of the final injury determination in the five year antidumping review by the U.S. International Trade Commission, in the matter of Stainless Steel Sheet and Strip from Mexico, Secretariat File No. USA-MEX-2005-1904-06.

SUMMARY: Pursuant to the Order of the Binational Panel dated September 10, 2008, affirming the final determination described above, the panel review was completed on September 22, 2008.

FOR FURTHER INFORMATION CONTACT: Marsha Ann Y. Iyomasa, Deputy United States Secretary, NAFTA Secretariat, Suite 2061, 14th and Constitution Avenue, NW., Washington, DC 20230, (202) 482-5438.

SUPPLEMENTARY INFORMATION: On September 10, 2008, the Binational Panel issued an order affirming the final determination of the United States International Trade Commission (ITC) concerning stainless steel sheet and strip from Mexico. The Secretariat was instructed to issue a Notice of Completion of Panel Review on the 31st day following the issuance of the Notice of Final Panel Action, if a request for an Extraordinary Challenge was not filed. No such request was filed. Therefore, on the basis of the Panel Order and Rule 80 of the Article 1904 Panel Rules, the Panel Review was completed and the panelists discharged from their duties effective October 23, 2008.

Dated: October 23, 2008.
Marsha Ann Y. Iyomasa,
Deputy United States Secretary, NAFTA Secretariat.

[FR Doc. E8-25750 Filed 10-28-08; 8:45 am]

BILLING CODE 3510-GT-P